BROADCASTING BOARD OF GOVERNORS

Sunshine Act Meeting; Canceled

DATE AND TIME: Monday, February 10, 2014, 11:30 a.m. EST

PLACE: Broadcasting Board of Governors, Cohen Building, Room 3321, 330 Independence Ave. SW., Washington, DC 20237.

SUBJECT: Cancellation of Special Meeting of the Broadcasting Board of Governors

SUMMARY: The Broadcasting Board of Governors (BBG) has canceled the telephonic meeting to discuss and approve the agency's Operating Plan for Fiscal Year 2014.

CONTACT PERSON FOR MORE INFORMATION: Persons interested in obtaining more information should contact Paul Kollmer-Dorsey at (202) 203-4545.

Paul Kollmer-Dorsey,
General Counsel.

[FR Doc. 2014-03167 Filed 2-12-14; 4:15 pm]

BILLING CODE 8610-01-P